DEPARTMENT OF TRANSPORTATION

Federal Aviation Administration

14 CFR Part 71

[Airspace Docket No. 00-AEA-1]

RIN 2120-AA66

Amendment of VOR Federal Airway V-162

AGENCY: Federal Aviation Administration (FAA), DOT.

ACTION: Final rule.

SUMMARY: This action amends the legal description of Federal Airway V-162 by deleting the portion of the route between the Martinsburg, WV, Very High Frequency Omnidirectional Range/Tactical Air Navigation (VORTAC) and the Harrisburg, PA, VORTAC. The FAA is taking this action because the route segment between the Harrisburg VORTAC and the Hyper Intersection is unusable for navigation due to signal roughness and scalloping.

EFFECTIVE DATE: 0901 UTC, October 5, 2000.

FOR FURTHER INFORMATION CONTACT: Paul Gallant, Airspace and Rules Division, ATA-400, Office of Air Traffic Airspace Management, Federal Aviation Administration, 800 Independence Avenue, SW., Washington, DC 20591; telephone: (202) 267-8783.

SUPPLEMENTARY INFORMATION:

History

On May 18, 2000, the FAA proposed to amend 14 CFR part 71 to delete a segment of V-162 that is unusable for navigation (65 FR 31504). Flight inspection found that the radial between the Harrisburg VORTAC and Hyper Intersection is not usable due to signal roughness and scalloping. This problem renders the affected segment unusable for navigation purposes. The FAA has issued a Flight Data Center Notice to Airmen advising users of this restriction.

Interested parties were invited to participate in this rulemaking proceeding by submitting comments. No comments were received. Except for editorial changes, this rule is the same as that proposed in the notice.

The Rule

This action amends part 71 by deleting the portion of VOR Federal Airway V-162 between the Martinsburg, WV, VORTAC and the Harrisburg, PA, VORTAC. Flight inspection has found that the radial extending from the Harrisburg VORTAC to the Hyper Intersection is not usable for navigation due to signal roughness and scalloping. As a result of this problem, the portion of the airway between Martinsburg VORTAC and Harrisburg VORTAC is being deleted. Other existing published airways provide alternative routing between the Martinsburg VORTAC and Harrisburg VORTAC.

Domestic VOR Federal airways are published in paragraph 6010(a) of FAA Order 7400.9G, dated September 1, 1999, and effective September 16, 1999, which is incorporated by reference in 14 CFR 71.1. The airway listed in this document will be published subsequently in the Order.

The FAA has determined that this regulation only involves an established body of technical regulations for which frequent and routine amendments are necessary to keep them operationally current. Therefore this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p.389.

§ 71.1 [Amended]

2. The incorporation by reference in 14 CFR 71.1 of the Federal Aviation Administration Order 7400.9G, Airspace Designations and Reporting Points, dated September 1, 1999, and effective September 16, 1999, is amended as follows:

Paragraph 6010(a)—Domestic VOR Federal Airways

* * * * *

V-162 [Revised]

From Harrisburg, PA; INT Harrisburg 092° and East Texas, PA, 251° radials; East Texas; Allentown, PA; to Huguenot, NY.

* * * * *

Issued in Washington, DC, on August 3, 2000.
Paul Gallant,
Acting Manager, Airspace and Rules Division.

[FR Doc. 00-20165 Filed 8-8-00; 8:45 am]

BILLING CODE 4910-13-U